DEPARTMENT OF THE INTERIOR

Fish and Wildlife Service

50 CFR Part 23

[Docket No. FWS-R9-IA-2010-0083; 96300-1671-0000-R4]

RIN 1018-AW82

Revision of Regulations Implementing the Convention on International Trade in Endangered Species of Wild Fauna and Flora (CITES); Updates Following the Fifteenth Meeting of the Conference of the Parties to CITES; Correction

AGENCY: Fish and Wildlife Service, Interior.

ACTION: Final rule; Correction.

SUMMARY: We, the U.S. Fish and Wildlife Service, are correcting a final rule published in the Federal Register on May 27, 2014, to revise the regulations that implement the Convention on International Trade in Endangered Species of Wild Fauna and Flora (CITES) by incorporating certain provisions adopted at the fourteenth and fifteenth meetings of the Conference of the Parties (CoP14 and CoP15) to CITES and to clarify and update certain other provisions. In that rule, one of our amendatory instructions was incorrect. This action makes the necessary correction.

DATES: This correction is effective June 6, 2014.

FOR FURTHER INFORMATION CONTACT: Robert R. Gabel, Chief, Division of Management Authority; U.S. Fish and Wildlife Service; 4401 N. Fairfax Drive; Suite 212; Arlington, VA 22203 (telephone, (703) 358-2093; fax, (703) 358-2280).

SUPPLEMENTARY INFORMATION: In a final rule that published in the Federal Register on May 27, 2014, at 79 FR 30400, the following correction is made:

§ 23.23 [Corrected]

1. On page 30422, in the second column, for § 23.23 What information is required on U.S. and foreign CITES documents?, in amendment 21, instruction 21.g., “Revising paragraph (c)(13)(i)(B) to read as set forth below;” is corrected to read, “Adding paragraph (c)(13)(i)(B) to read as set forth below;”.

Dated: June 2, 2014.
Tina A. Campbell,
Chief, Division of Policy and Directives Management, U.S. Fish and Wildlife Service.

[FR Doc. 2014-13144 Filed 6-5-14; 8:45 am]

BILLING CODE 4310-55-P